NATIONAL FOUNDATION ON THE ARTS AND THE HUMANITIES

Institute of Museum and Library Services

Submission for OMB Review, Comment Request, Proposed Collection: Native American Library Services Basic Grant Program Notice of Funding Opportunity

AGENCY: Institute of Museum and Library Services, National Foundation on the Arts and the Humanities.

ACTION: Submission for OMB Review, comments request, collection of information.

SUMMARY: The Institute of Museum and Library Services (IMLS) announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the renewal of the clearance of the Native American Library Services Basic Grant Program, a discretionary grant program designed to assist Native American tribes in improving library services for their communities. A copy of the proposed information collection request can be obtained by contacting the individual listed below in the FOR FURTHER INFORMATION CONTACT section of this Notice.

DATES: Written comments must be submitted to the office listed in the ADDRESSES section below on or before February 14, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Jennifer Himmelreich, Senior Program Officer, Office of Library Services, Institute of Museum and Library Services, 955 L'Enfant Plaza North SW, Suite 4000, Washington DC 20024-2135. Ms. Himmelreich can be reached by telephone at 202-653-4797, or by email at jhimmelreich@imls.gov. Persons who are deaf or hard of hearing (TTY users) can contact IMLS at 202-207-7858 via 711 for TTY-Based Telecommunications Relay Service.

SUPPLEMENTARY INFORMATION: IMLS is the primary source of federal support for the nation's libraries and museums. We advance, support, and empower America's museums, libraries, and related organizations through grant making, research, and policy development. To learn more, visit www.imls.gov.

Current Actions: The purpose of the Native American Library Services Basic Grants Program is to assist Native American tribes in improving library services for their communities. IMLS recognizes that information needs, and approaches to meeting them, are evolving at an unprecedented pace in all communities, and to operate within this environment effectively for the benefit of their users, libraries must be able to both strengthen existing services and move quickly to adopt new and emerging technologies.

The two goals for this program will be (1) to improve services for learning and accessing information in a variety of formats to support needs for education, workforce development, economic and business development, health information, critical thinking skills, and digital literacy skills; and (2) to enhance the skills of the current library workforce and leadership through training, continuing education, and opportunities for professional development.

This action is to renew the forms and instructions for the Notice of Funding Opportunities for the next three years.

The 60-Day Notice was published in the Federal Register on November 7, 2023 (88 FR 76862-76863). The agency has taken into consideration the one comment that was received under this notice.

Agency: Institute of Museum and Library Services.

Title: IMLS Native American Library Services Basic Grant Program Notice of Funding Opportunity.

OMB Control Number: 3137-0093.

Affected Public: Federally Recognized Indian Tribes.

Total Number of Respondents: 200.

Frequency of Response: Once per request.

Average Hours per Response: 10 hours.

Total Estimated Number of Annual Burden Hours: 2,000.

Total Annualized capital/startup costs: n/a.

Cost Burden: $62,280.

Total Annual Federal Costs: $32,646.

Dated: January 9, 2024.
Suzanne Mbollo,
Grants Management Specialist, Institute of Museum and Library Services.

[FR Doc. 2024-00590 Filed 1-11-24; 8:45 am]

BILLING CODE 7036-01-P